FEDERAL TRADE COMMISSION

SES Performance Review Board

AGENCY: Federal Trade Commission.

ACTION: Notice.

SUMMARY: Notice is hereby given of the appointment of members to the FTC Performance Review Board.

FOR FURTHER INFORMATION CONTACT: Vicki Barber, Chief Human Capital Officer, 600 Pennsylvania Avenue NW., Washington, DC 20580, (202) 326-2700.

SUPPLEMENTARY INFORMATION: Publication of the Performance Review Board (PRB) membership is required by 5 U.S.C. 4314 (c)(4). The PRB reviews and evaluates the initial appraisal of a senior executive's performance by the supervisor, and makes recommendations regarding performance ratings, performance awards, and pay-for-performance pay adjustments to the Chairwoman.

The following individuals have been designated to serve on the Commission's Performance Review Board:

David Robbins, Executive Director, Chairman

David Shonka, Acting General Counsel

Deborah Feinstein, Director, Bureau of Competition

Jessica Rich, Director, Bureau of Consumer Protection

Michael Vita, Deputy Director, Bureau of Economics

By direction of the Commission.
Donald S. Clark,
Secretary.

[FR Doc. 2016-21402 Filed 9-2-16; 8:45 am]

BILLING CODE 6750-01-P